DEPARTMENT OF ENERGY

Federal Energy Regulatory Commission

Notice of Filings

September 11, 2009.

Take notice that the Commission received the following electric rate filings:

Docket Numbers: ER01-1099-000; ER02-1406-014; ER99-2928-020.

Applicants: Cleco Power LLC; Acadia Power Partners, LLC; Cleco Evangeline LLC.

Description: Cleco Companies submit supplemental affidavit of Paul Raab.

Filed Date: 09/04/2009.

Accession Number: 20090909-0151.

Comment Date: 5 p.m. Eastern Time on Friday, September 25, 2009.

Docket Numbers: ER09-411-003.

Applicants: Midwest Independent Transmission System Operator, Inc.

Description: Midwest ISO submits accepted provisions as incorporated into the Open Access Transmission and Energy Markets Tariff revised to reflect an effective date of 12/31/08, et al.

Filed Date: 09/08/2009.

Accession Number: 20090909-0159.

Comment Date: 5 p.m. Eastern Time on Tuesday, September 29, 2009.

Docket Numbers: ER09-1685-000.

Applicants: PacifiCorp.

Description: PacifiCorp submits Engineering and Procurement Agreement dated 8/25/09 between PacifiCorp and Ridgeline Alternative Energy, LLC.

Filed Date: 09/08/2009.

Accession Number: 20090909-0160.

Comment Date: 5 p.m. Eastern Time on Tuesday, September 29, 2009.

Docket Numbers: ER09-1686-000.

Applicants: PJM Interconnection, L.L.C.

Description: PJM Interconnection, LLC submits Fifth Revised Sheet No. 523I.02 to FERC Electric Tariff, Sixth Revised Volume No. 1.

Filed Date: 09/09/2009.

Accession Number: 20090910-0061.

Comment Date: 5 p.m. Eastern Time on Wednesday, September 30, 2009.

Docket Numbers: ER09-1687-000.

Applicants: Southern California Edison Company.

Description: Southern California Edison Co submits revised rate sheets to the Mira Loma Peaker Project Large Generator Interconnection Agreement etc.

Filed Date: 09/09/2009.

Accession Number: 20090910-0062.

Comment Date: 5 p.m. Eastern Time on Wednesday, September 30, 2009.

Docket Numbers: ER09-1688-000.

Applicants: NorthWestern Corporation.

Description: NorthWestern Corp submits an executed Large Generator Interconnection Agreement with Martinsdale Wind Farm, LLC under.

Filed Date: 09/09/2009.

Accession Number: 20090910-0060.

Comment Date: 5 p.m. Eastern Time on Wednesday, September 30, 2009.

Take notice that the Commission received the following electric securities filings:

Docket Numbers: ES09-51-000.

Applicants: Georgia Power Company.

Description: Application of Georgia Power Company for Authorization of Issuance of Securities under section 204 of the FPA under ES09-51.

Filed Date: 09/09/2009.

Accession Number: 20090909-5094.

Comment Date: 5 p.m. Eastern Time on Wednesday, September 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-22722 Filed 9-21-09; 8:45 am]

BILLING CODE 6717-01-P